DEPARTMENT OF AGRICULTURE

Animal and Plant Health Inspection Service

[Docket No. APHIS-2018-0074]

Recognition of Freedom From Citrus Longhorned Beetle and Asian Longhorned Beetle in Certain European Union Countries

AGENCY: Animal and Plant Health Inspection Service, USDA.

ACTION: Notice.

SUMMARY: We are notifying the public that we propose to update the U.S. Department of Agriculture Plants for Planting Manual by recognizing 22 European Union Member States as being free from citrus longhorned beetle (CLB) and Asian longhorned beetle (ALB) and removing them from the list of countries where CLB and ALB are present. We would also change the entry conditions in the manual for imports of certain host plant taxa of CLB and ALB from four of these countries (Belgium, Denmark, the Netherlands, and the United Kingdom) because they have previously approved genera exempted from the category of plants Not Authorized Pending Pest Risk Analysis. These changes would relieve certain restrictions on host plants of CLB and ALB from Belgium, Denmark, the Netherlands, and the United Kingdom while continuing to mitigate the risk of introducing quarantine pests into the United States.

DATES: We will consider all comments that we receive on or before September 16, 2019.

ADDRESSES: You may submit comments by either of the following methods:

• Federal eRulemaking Portal: Go to http://www.regulations.gov/#!docketDetail;D=APHIS-2018-0074.

• Postal Mail/Commercial Delivery: Send your comment to Docket No. APHIS-2018-0074, Regulatory Analysis and Development, PPD, APHIS, Station 3A-03.8, 4700 River Road, Unit 118, Riverdale, MD 20737-1238.

Supporting documents and any comments we receive on this docket may be viewed at http://www.regulations.gov/#!docketDetail;D=APHIS-2018-0074 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Rosemarie Rodriguez-Yanes, Regulatory Policy Specialist, PHP, PPQ, APHIS, 4700 River Road, Unit 137, Riverdale, MD 20737; (301) 851-2313; Rosemarie.Rodriguez-Yanes@usda.gov.

SUPPLEMENTARY INFORMATION: Under the regulations in “Subpart H—Plants for Planting” (7 CFR 319.37-1 through 319.37-23, referred to below as the regulations), the Animal and Plant Health Inspection Service (APHIS) of the U.S. Department of Agriculture (USDA) prohibits or restricts the importation of plants for planting (including living plants, plant parts, seeds, and plant cuttings) to prevent the introduction of quarantine pests into the United States. Quarantine pest is defined in § 319.37-2 as a plant pest or noxious weed that is of potential economic importance to the United States and not yet present in the United States, or present but not widely distributed and being officially controlled. In accordance with § 319.37-20, APHIS may impose quarantines and other restrictions on the importation of specific types of plants for planting. These restrictions are listed in the USDA Plants for Planting Manual.¹ Under § 319.37-20, if APHIS determines it is necessary to add, change, or remove restrictions on the importation of a specific type of plant for planting, we will publish in the Federal Register a notice that announces the proposed change to the manual and invites public comment.

¹ https://www.aphis.usda.gov/import_export/plants/manuals/ports/downloads/plants_for_planting.pdf.

The citrus longhorned beetle (CLB), Anoplophora chinensis (Forster), and the Asian longhorned beetle (ALB), Anoplophora glabripennis (Motschulsky), are destructive polyphagous wood boring pests and are quarantine pests for the United States.

In 2012, the European Commission (EC) asked APHIS to recognize pest freedom from CLB and ALB in European Union (EU) Member States based on equivalence and provided APHIS with supporting information that included new regulatory requirements, emergency control measures, and movement control for both species.² In 2015, the EC revised their regulated CLB and ALB host list to include all the host genera of concern to APHIS.

² See “Commission Implementing Decision 2015/893 for A. glabripennis (http://eur-lex.europa.eu/legal-content/EN/TXT/uri=CELEX:32015D0893), and Commission Implementing Decision 2012/138 for A. chinensis” http://eur-lex.europa.eu/legal-content/EN/TXT/qid=1524250924966&uri=CELEX:32012D0138.

Based on information provided by the EC, we prepared a commodity import evaluation document (CIED). In the CIED, we concluded that in accordance with international provisions ³ for recognition of pest free areas and areas of low prevalence, we would recognize specific EU Member States that are either free from both CLB and ALB or as having eradicated an infestation of these pests at least 3 years ago.

³ ISPM 29: Recognition of pest free areas and areas of low pest prevalence. International Plant Protection Convention, 2017: https://www.ippc.int/static/media/files/publication/en/2017/05/ISPM_29_2007_En_2017-05-25_PostCPM12_InkAm.pdf.

Accordingly, we propose to update the USDA Plants for Planting Manual by removing 22 EU Member States from the list of countries where CLB and ALB are present. However, although these countries are free of CLB and ALB, we note that this action changes the import requirements for host plants for these pests for only four of these countries: Belgium, Denmark, the Netherlands, and the United Kingdom.⁴ These are the only EU countries that have previously approved CLB and ALB host genera that are currently exempt from the category of plants Not Authorized Pending Pest Risk Analysis, or NAPPRA.⁵

⁴ Country and individual host taxa are listed in Table 3-3 of the USDA Plants for Planting Manual. Import requirements for countries referenced in Table 3-3 and that are free of both CLB and ALB are located in Table 3-8.

⁵ When a plant is NAPPRA it means that the plant cannot be imported until a pest risk analysis is requested and completed for that plant. APHIS exempts imports of plants that are hosts of quarantine pests from the NAPPRA requirements when there is significant trade of that plant between the exporting country and the United States. We continue to allow such importation based on our experience with importing these plants for planting and our findings, through inspection, that they are generally pest free.

NAPPRA-exempt host taxa of CLB and ALB from Belgium, Denmark, the Netherlands, and the United Kingdom would be admissible with the current import permit requirements with a stem or root collar diameter greater than 10 mm (0.4 inches). The NAPPRA-exempt taxa from these four EU countries affected by the proposed changes are:

• Malus spp. from Belgium;

• Hibiscus spp. and Rosa spp. from Denmark;

• Non-variegated Acer japonicum, Non Variegated Acer palmatum, Aralia spp., Carpinus spp., Cercidiphyllum spp., Cercis spp., Cornus spp., Corylus spp., Cotoneaster spp., Fagus spp., Ficus spp., Hedera spp., Ilex spp., Malus spp., Prunus spp., Robinia spp., Rosa spp., and Styrax spp. from the Netherlands; and

• Rosa spp. and Rubus spp. from the United Kingdom.

Furthermore, these host taxa must also meet the following criteria for entry into the United States:

• The host plants were grown solely on mother stock from Belgium, Denmark, the Netherlands, and the United Kingdom; and

• The host plants have never been grown in a country from which their importation would be prohibited NAPPRA as listed in the USDA Plants for Planting Manual.

We are only recognizing EU Member States that are free from both pests, or that eradicated an infestation at least 3 years ago. In our updated list, the EU Member States that would continue to be listed as countries where ALB and/or CLB are present are: Austria, Croatia, Finland, France, Germany, and Italy.

After we review public comments on our proposed changes to the USDA Plants for Planting Manual, we will publish a second notice to affirm our proposed changes or to inform persons of any additional changes with respect to the importation of host plants of CLB and ALB from Belgium, Denmark, the Netherlands, and the United Kingdom.

Authority: 7 U.S.C. 1633, 7701-7772, and 7781-7786; 21 U.S.C. 136 and 136a; 7 CFR 2.22, 2.80, and 371.3.

Done in Washington, DC, this 11th day of July 2019.
Kevin Shea,
Administrator, Animal and Plant Health Inspection Service.

[FR Doc. 2019-15185 Filed 7-16-19; 8:45 am]

BILLING CODE 3410-34-P